DEPARTMENT OF LABOR

Pension and Welfare Benefits Administration

Working Group on Planning for Retirement Advisory Council on Employee Welfare and Pension Benefits Plans; Notice of Meeting

Pursuant to the authority contained in section 512 of the Employee Retirement Income Security Act of 1974 (ERISA), 29 U.S.C. 1142, a public meeting will be held Monday, April 9, 2001, of the Advisory Council on Employee Welfare and Pension Benefit Plans Working Group assigned to study planning for retirement.

The session will take place in Room N-5437 A-C, U.S. Department of Labor Building, Second and Constitution Avenue, NW., Washington, DC 20210. The purpose of the open meeting, which will run from 1 p.m. to approximately 3:30 p.m., is for working group members to decide what course their study will take during 2001 and to begin taking testimony on the issue to include considerations retirees should address for their “golden years”—sources of retirement income (Social Security, personal savings, pay outs (lump sum or annuities) from employer-sponsored defined benefit and/or defined contribution plans) as well as what healthcare costs they can anticipate. With a substantial percentage of the American workforce rapidly approaching the traditional retirement window, the question is whether they are appropriately prepared for this transition. The working group will explore what employees need to do to best prepare for this transition.

Named as chair of the working group is Thomas M. McMahon, senior vice president of finance and administration at the Pacific Maritime Association in San Francisco, Calif. and the vice chair is Norman Stein, law professor at the University of Alabama at Tuscaloosa. Members of the public are encouraged to file a written statement pertaining to the topic by submitting 20 copies on or before April 1, 2001, to Sharon Morrissey, Executive Secretary, ERISA Advisory Council, U.S. Department of Labor, Room N-5677, 200 Constitution Avenue, NW., Washington, DC 20210. Individuals or representatives of organizations wishing to address the Working Group should forward their request to the Executive Secretary or telephone (202) 219-8753. Oral presentations will be limited to 10 minutes, but an extended statement may be submitted for the record. Individuals with disabilities, who need special accommodations, should contact Sharon Morrissey by April 1, at the address indicated in this notice.

Organizations or individuals may also submit statements for the record without testifying. Twenty (20) copies of such statements should be sent to the Executive Secretary of the Advisory Council at the above address. Papers will be accepted and included in the record of the meeting if received on or before April 1.

Signed at Washington, DC this 13th day of March 2001.
Alan D. Lebowitz,
Acting Assistant Secretary, Pension and Welfare Benefits Administration.

[FR Doc. 01-6783 Filed 3-19-01; 8:45 am]

BILLING CODE 4510-29-M